DEPARTMENT OF ENERGY

Federal Energy Regulatory Commission

[Docket No. RP02-566-000]

Dominion Transmission, Inc.; Notice of Annual EPCA Filing

October 4, 2002.

Take notice that on September 30, 2002, Dominion Transmission Inc. (DTI) tendered for filing as part of its FERC Gas Tariff, Third Revised Volume No. 1, Fourteenth Revised Sheet No. 31; Seventeenth Revised Sheet No. 32; Ninth Revised Sheet No. 34; Twelfth Revised Sheet No. 35; and Fifth Revised Sheet No. 39, with an effective date of November 1, 2002.

DTI states that the purpose of its filing is to comply with the Electric Power Cost Adjustment provision of the General Terms and Conditions of its FERC Gas Tariff, as that provision will be revised effective November 1, 2002, in accordance with the Stipulation and Agreement filed on June 22, 2001, in Docket No. RP00-632-003, and approved by Commission letter order issued in that proceeding on September 13, 2001.

DTI states that copies of the filing have been sent to DTI's customers and interested stated commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-25806 Filed 10-10-02; 8:45 am]

BILLING CODE 6717-01-P